COMMODITY FUTURES TRADING COMMISSION

Sunshine Act Meetings

The following notice of scheduled meetings is published pursuant to the provisions of the Government in the Sunshine Act, Public Law 94-409, 5 U.S.C. 552b.

AGENCY HOLDING THE MEETINGS: Commodity Futures Trading Commission.

TIMES AND DATES: The Commission has scheduled meetings for the following dates:

July 7, 2011 at 9:30 a.m.

July 19, 2011 at 9:30 a.m.

August 4, 2011 at 9:30 a.m.

September 8, 2011 at 9:30 a.m.

September 22, 2011 at 9:30 a.m.

PLACE: Three Lafayette Center, 1155 21st St., NW., Washington, DC, Lobby Level Hearing Room (Room 1000).

STATUS: Open.

Matters To Be Considered

The Commission has scheduled these meetings to consider various rulemaking matters, including the issuance of proposed rules and the approval of final rules. The Commission may also consider and vote on dates and times for future meetings. Agendas for each of the scheduled meetings will be made available to the public and posted on the Commission's Web site at http://www.cftc.gov at least seven (7) days prior to the meeting. In the event that the times or dates of the meetings change, an announcement of the change, along with the new time and place of the meeting will be posted on the Commission's Web site.

CONTACT PERSON FOR MORE INFORMATION: David A. Stawick, Secretary of the Commission, 202-418-5071.

David A. Stawick,
Secretary of the Commission.

[FR Doc. 2011-15304 Filed 6-15-11; 4:15 pm]

BILLING CODE 6351-01-P